ENVIRONMENTAL PROTECTION AGENCY

[EPA-HQ-OW-2010-0595; FRL-9177-3; EPA ICR No. 2402.01; OMB Control No. 2040-NEW]

Agency Information Collection Activities; Proposed Collection; Comment Request; Willingness To Pay Survey for Section 316(b) Existing Facilities Cooling Water Intake Structures (New)

AGENCY: Environmental Protection Agency (EPA).

ACTION: Notice.

SUMMARY: In compliance with the Paperwork Reduction Act (PRA) (44 U.S.C. 3501 et seq.), this document announces that EPA is planning to submit a request for a new Information Collection Request (ICR) to the Office of Management and Budget (OMB). Before submitting the ICR to OMB for review and approval, EPA is soliciting comments on specific aspects of the proposed information collection as described below.

DATES: Comments must be submitted on or before September 20, 2010.

ADDRESSES: Submit your comments, identified by Docket ID No. EPA-HQ-OW-2010-0595 by one of the following methods:

• http://www.regulations.gov: Follow the on-line instructions for submitting comments.

• E-mail: OW-Docket@epa.gov, Attention Docket ID No. EPA-HQ-OW-2010-0595.

• Mail: Water Docket, Environmental Protection Agency, Mailcode: 28221T, 1200 Pennsylvania Ave., NW., Washington, DC 20460, Attention Docket ID No. EPA-HQ-OW-2010-0595. Please include a total of 3 copies.

• Hand Delivery: Water Docket, EPA Docket Center, EPA West, Room 3334, 1301 Constitution Ave., NW., Washington, DC, Attention Docket ID No. EPA-HQ-OW-2010-0595. Such deliveries are only accepted during the Docket's normal hours of operation and special arrangements should be made.

Instructions: Direct your comments to Docket ID No. EPA-HQ-OW-2010-0595. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/dockets.

FOR FURTHER INFORMATION CONTACT: Erik Helm, Office of Water, Office of Science and Technology, Engineering and Analysis Division, Economic and Environmental Assessment Branch, 4303T, Environmental Protection Agency, 1200 Pennsylvania Ave., NW., Washington, DC 20460; telephone number: 202-566-1049; fax number: 202-566-1053; e-mail address: Helm.Erik@epa.gov.

SUPPLEMENTARY INFORMATION:

How can I access the docket and/or submit comments?

EPA has established a public docket for this ICR under Docket ID No. EPA-HQ-OW-2010-0595 which is available for online viewing at http://www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is 202-566-1752.

Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Affected entities: Entities potentially affected by this action are individuals/households.

Title: Willingness to Pay Survey for Section 316(b) Existing Facilities Cooling Water Intake Structures: Instrument, Pre-test, and Implementation (New).

ICR numbers: EPA ICR No. 2402.01, OMB Control No. 2040-NEW.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Section 316(b) of the Clean Water Act (CWA) requires EPA to ensure that the location, design, construction, and capacity of cooling water intake structures (CWIS) reflect the best technology available (BTA) to protect aquatic organisms from being killed or injured by impingement or entrainment. EPA divided this rulemaking into three phases. At question here are the Phases II and III.

The Phase II rule, which covered existing electric generating plants that withdraw at least 50 million gallons a day (MGD) of cooling water, was completed in July 2004. Industry and environmental stakeholders challenged the Phase II regulations. On judicial review, the Second Circuit remanded several key provisions. In July 2007, EPA suspended the Phase II Rule. Following additional review in 2009 by the U.S. Supreme Court in Entergy Corp. v. Riverkeeper Inc., which decided that “EPA permissibly relied on cost-benefit analysis in setting the national performance standards * * * as part of the Phase II regulations.” EPA has voluntary remanded the rule.

In June of 2006, EPA promulgated the 316(b) Phase III Rule for existing manufacturers, small flow power plants (facilities that withdraw less than 50 MGD), and new offshore oil and gas facilities. Offshore oil and gas firms and environmental groups petitioned for judicial review, which was to occur in the Fifth Circuit, but was stayed pending the completion of the Phase II litigation. EPA has asked the Fifth Circuit to remand the existing facilities portion of the Phase III rule so that it can consider what might be appropriate requirements for all existing facilities. While the 5th Circuit has not yet issued a decision, EPA is anticipating combining Phases II and III into one rulemaking covering all existing facilities.

Under Executive Order 12866, EPA is required to estimate the potential benefits and costs to society of proposed rule options. To assess the public policy significance or importance of the ecological gains from the section 316(b) regulation for existing facilities, EPA requests approval from the Office of Management and Budget to conduct a stated preference survey. Data from the associated stated preference survey will be used to estimate values (willingness to pay, or WTP) derived by households for changes related to the reduction of fish losses at CWIS, and to provide information to assist in the interpretation and validation of survey responses. EPA has designed the survey to provide data to support the following specific objectives: [a] The estimation of the total values (use plus non-use) that individuals place on preventing losses of fish and other aquatic organisms caused by 316(b) facilities; [b] to understand how much individuals value preventing fish losses, increasing fish populations, and increasing commercial and recreational catch rates; [c] to understand how such values depend on the current baseline level of fish populations and fish losses, the scope of the change in those measures, and the certainty level of the predictions; and [d] to understand how such values vary with respect to individuals' economic and demographic characteristics.

The target population for this stated preference survey is all individuals from continental U.S. households who are 18 years of age or older. The population of households will be stratified by the geographic boundaries of 5 EPA study regions: California, Great Lakes, Inland, Northeast, and Southeast. Survey participants will be recruited randomly through random digit dialing. The intended sample size for the survey is 2,000 households including only households providing completed surveys. This sample size was chosen to provide statistically robust results while minimizing the cost and burden of the survey. In addition to the sample size, EPA will take steps to both test for and ameliorate survey non-response bias. EPA will follow standard practice in stated preference design, including the extensive use of focus groups and pretesting to develop survey questionnaires.

The key elicitation questions in each of the five regional surveys ask respondents whether or not they would vote for policies that would increase their cost of living, in exchange for specified multi-attribute changes in (a) impingement and entrainment losses of fish, (b) commercial fish sustainability, (c) long-term fish populations, and (d) condition of aquatic ecosystems. This “choice experiment” or “choice modeling” framework allows respondents to state their preferences by making a voting-type selection between two hypothetical multi-attribute regulatory options (and a third “status quo” choice that rejects both options). These stated preferences with respect to levels of environmental goods and cost to households, when used in conjunction with other information collected in the survey on the respondent's use of the affected aquatic resources, household income, and other demographics, can be analyzed statistically (using either a fixed or random effects mixed logit framework) to estimate total WTP for the quantified environmental benefits of the 316(b) existing facilities rulemaking. Data analysis and interpretation is grounded in a standard random utility model.

In addition, to the total values, the survey will allow the estimation of values associated with specific choice attributes (following standard methods for choice experiments), and will also allow the flexibility to provide some insight into the relative importance of use versus non-use values in the 316(b) context. Analysis also allows estimation of the variation in WTP across different types of households, in different areas. As indicated in prior literature, it is virtually impossible to justify, theoretically, the decomposition of empirical total willingness-to-pay estimates into separate use and non-use components. The survey will, however, provide the flexibility to estimate nonuser values, using various nonuser definitions drawn from responses to survey questions. The structure of the choice attribute questions will also allow the analysis to separate value components related to the most common sources of use values—effect on harvested recreational and commercial fish.

The various welfare values that can be derived from this stated preference survey (discussed above) along with those that are estimated apart from the survey effort will offer insight into the composition of the value people place on the 316(b) environmental impacts. But within rulemaking, among the most crucial concerns is the avoidance of benefit (or cost) double counting. Here, for example, WTP estimates derived from the survey may overlap—to a potentially substantial extent—with estimates that can be provided through some other methods. Therefore, particular care will be given to avoid any possible double counting of values that might be derived from alternative valuation methods. In doing so, the Office of Water will rely upon standard theoretical tools for non-market welfare analysis, as presented by authors including Freeman (2003) and Just et al. (2004).

Burden Statement: The annual public reporting and recordkeeping burden for this collection of information is estimated to average 5 minutes per telephone screening participant and 30 minutes per mail survey respondent including the time necessary to complete and mail back the questionnaire. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 8,333 for telephone screening and 2,000 for mailed questionnaires.

Frequency of response: One-time response.

Estimated total average number of responses for each respondent: One-time response.

Estimated total burden hours: 1,527 hours.

Estimated total costs: $34,600. EPA estimates that there will be no capital and operating and maintenance cost burden to respondents.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: July 13, 2010.
Ephraim S. King,
Director, Office of Science and Technology.

[FR Doc. 2010-17808 Filed 7-20-10; 8:45 am]

BILLING CODE 6560-50-P